DEPARTMENT OF DEFENSE

Department of the Air Force

Second Supplemental Record of Decision (ROD) for Reuse and Disposal at Lowry Air Force Base (AFB), CO

The Second Supplemental ROD for Lowry AFB changes four decisions made in the original Lowry AFB ROD signed on August 1, 1994. Three of the changes involve conveying Parcels F, FF, and S to the Lowry Redevelopment Authority to be included in their Economic Development Conveyance. The fourth change is to assign Parcel MM to the Department of Health and Human Services for their conveyance of the property to Third Way Center.

Janet A. Long,
Air Force Federal Register Liaison Officer.

[FR Doc. 01-10303 Filed 4-25-01; 8:45 am]

BILLING CODE 5001-05-P